DEPARTMENT OF TRANSPORTATION

Federal Aviation Administration

14 CFR Part 39

[Docket No. FAA-2015-0825; Directorate Identifier 2015-NM-035-AD; Amendment 39-18138; AD 2015-08-02]

RIN 2120-AA64

Airworthiness Directives; Dassault Aviation Airplanes

AGENCY: Federal Aviation Administration (FAA), Department of Transportation (DOT).

ACTION: Final rule; request for comments.

SUMMARY: We are superseding Airworthiness Directive (AD) 2015-02-04 for certain Dassault Aviation Model MYSTERE-FALCON 50 airplanes. AD 2015-02-04 required installing two protective plates between the electrical wiring under the glare shield and the engine fire pull handles. This new AD continues to require installing two protective plates between the electrical wiring under the glare shield and the engine fire pull handles. This AD was prompted by our determination that the published version of AD 2015-02-04 incorrectly identified the AD number as “AD 2014-02-04” in a certain paragraph. We are issuing this AD to prevent chafing of the electrical wiring, which could result in a short circuit and generation of smoke in the cockpit, potential loss of several functions essential for safe flight, and consequent reduced controllability of the airplane.

DATES: This AD becomes effective April 29, 2015.

The Director of the Federal Register approved the incorporation by reference of a certain publication listed in this AD as of March 6, 2015 (80 FR 5034, January 30, 2015).

We must receive comments on this AD by May 29, 2015.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this AD, contact Dassault Falcon Jet, P.O. Box 2000, South Hackensack, NJ 07606; telephone 201-440-6700; Internet http://www.dassaultfalcon.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-0825; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Discussion

On January 12, 2015, we issued AD 2015-02-04, Amendment 39-18071 (80 FR 5034, January 30, 2015). AD 2015-02-04 applied to certain Dassault Aviation Model MYSTERE-FALCON 50 airplanes. AD 2015-02-04 was prompted by a report of an untimely and intermittent indication of slat activity due to chafing of the electrical wiring under the glare shield and behind the flight deck front panel. AD 2015-02-04 required installing two protective plates between the electrical wiring under the glare shield and the engine fire pull handles. We issued AD 2015-02-04 to prevent chafing of the electrical wiring, which could result in a short circuit and generation of smoke in the cockpit, potential loss of several functions essential for safe flight, and consequent reduced controllability of the airplane.

AD 2015-02-04, Amendment 39-18071 (80 FR 5034, January 30, 2015), corresponds to Mandatory Continuing Airworthiness Information (MCAI) European Aviation Safety Agency (EASA) Airworthiness Directive 2014-0024, dated January 23, 2014. You may examine the MCAI on the Internet at http://www.regulations.gov by searching for and locating Docket No. FAA-2015-0825.

Since we issued AD 2015-02-04, Amendment 39-18071 (80 FR 5034, January 30, 2015), we have determined that the published version of AD 2015-02-04 incorrectly identified the AD number in the Product Identification line as “AD 2014-02-04.” In order to refer to the correct AD number, this AD replaces “AD 2014-02-04” with “AD 2015-02-04” in the Product Identification line in the regulatory text.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

FAA's Determination of the Effective Date

An unsafe condition exists that requires the immediate adoption of this AD. The FAA has found that the risk to the flying public justifies waiving notice and comment prior to adoption of this rule because of the urgency to correct the AD number in the regulatory text to avoid non-compliance. Therefore, we determined that notice and opportunity for prior public comment are unnecessary.

Comments Invited

This AD is a final rule that involves requirements affecting flight safety, and we did not precede it by notice and opportunity for public comment. We invite you to send any written relevant data, views, or arguments about this AD. Send your comments to an address listed under the ADDRESSES section. Include “Docket No. FAA-2015-0825; Directorate Identifier 2015-NM-035-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 250 airplanes of U.S. registry.

The actions required by AD 2015-02-04, Amendment 39-18071 (80 FR 5034, January 30, 2015), and retained in this AD are as follows:

Action | Labor cost | Parts cost | Cost per product | Cost on U.S. operators
Retained installation from AD 2015-02-04, Amendment 39-18071 (80 FR 5034, January 30, 2015) | 26 work-hours × $85 per hour = $2,210 | $96 | $2,306 | $576,500

This AD adds no additional economic burden.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2015-02-04, Amendment 39-18071 (80 FR 5034, January 30, 2015), and adding the following new AD:

2015-08-02 Dassault Aviation: Amendment 39-18138. Docket No. FAA-2015-0825; Directorate Identifier 2015-NM-035-AD.

(a) Effective Date

This AD becomes effective April 29, 2015.

(b) Affected ADs

This AD replaces AD 2015-02-04, Amendment 39-18071 (80 FR 5034, January 30, 2015).

(c) Applicability

This AD applies to Dassault Aviation Model MYSTERE-FALCON 50 airplanes, certificated in any category, as identified in paragraphs (c)(1) and (c)(2) of this AD.

(1) Airplanes with manufacturer serial numbers 5, 7, 27, 30, 34, 36, 78, 132, and 251 through 352 inclusive.

(2) Airplanes with manufacturer serial numbers 2 through 250 inclusive, having Honeywell (formerly Allied Signal, Garrett AiResearch) TFE731-40-1C engines modified by Dassault Aviation Service Bulletin F50-280.

(d) Subject

Air Transport Association (ATA) of America Code 24, Electrical Power.

(e) Reason

This AD was prompted by a report of an untimely and intermittent indication of slat activity due to chafing of the electrical wiring under the glare shield and behind the flight deck front panel, and also our determination that the published version of AD 2015-02-04, Amendment 39-18071 (80 FR 5034, January 30, 2015), incorrectly identified the AD number as “AD 2014-02-04.” We are issuing this AD to prevent chafing of the electrical wiring, which could result in a short circuit and generation of smoke in the cockpit, potential loss of several functions essential for safe flight, and consequent reduced controllability of the airplane.

(f) Compliance

Comply with this AD within the compliance times specified, unless already done.

(g) Retained Installation of Protective Plates, With No Changes

This paragraph restates the requirements of paragraph (g) of AD 2015-02-04, Amendment 39-18071 (80 FR 5034, January 30, 2015), with no changes. Within 74 months after March 6, 2015 (the effective date of AD 2015-02-04), install two Rilsan protective plates between the glare shield electrical wiring and the engine fire pull handles, in accordance with the Accomplishment Instructions of Dassault Service Bulletin F50-530, dated November 12, 2013.

(h) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Dassault Aviation's EASA Design Organization Approval (DOA). If approved by the DOA, the approval must include the DOA-authorized signature.

(i) Related Information

Refer to Mandatory Continuing Airworthiness Information (MCAI) EASA Airworthiness Directive 2014-0024, dated January 23, 2014, for related information. This MCAI may be found in the AD docket on the Internet at http://www.regulations.gov by searching for and locating Docket No. FAA-2015-0825.

(j) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on March 6, 2015, (80 FR 5034, January 30, 2015).

(i) Dassault Service Bulletin F50-530, dated November 12, 2013.

(ii) Reserved.

(4) For service information identified in this AD, contact Dassault Falcon Jet, P.O. Box 2000, South Hackensack, NJ 07606; telephone 201-440-6700; Internet http://www.dassaultfalcon.com.

(5) You may view this service information at the FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on April 6, 2015.
John P. Piccola,
Acting Manager, Transport Airplane Directorate, Aircraft Certification Service.

[FR Doc. 2015-08389 Filed 4-13-15; 8:45 am]

BILLING CODE 4910-13-P